DEPARTMENT OF COMMERCE

International Trade Administration

[A-201-805]

Notice of Rescission of Antidumping Duty New Shipper Review: Certain Circular Welded Non-Alloy Steel Pipe from Mexico

AGENCY: Import Administration, International Trade Administration, Department of Commerce.

SUMMARY: On April 20, 2007, the Department of Commerce (“the Department”) published the preliminary intent to rescind the antidumping duty new shipper review of the antidumping duty order on certain circular welded non-alloy steel pipe from Mexico. See Certain Circular Welded Non-Alloy Steel Pipe and Tube from Mexico: Preliminary Intent to Rescind Antidumping Duty New Shipper Review, 72 FR 19880 (April 20, 2007) (Intent to Rescind). This new shipper review covers Conduit S.A. de C.V. (“Conduit”), a manufacturer and exporter of the subject merchandise. The period of review (“POR”) is November 1, 2005, through April 30, 2006. We did not receive any comments from parties, and are rescinding this new shipper review.

EFFECTIVE DATE: July 17, 2007.

FOR FURTHER INFORMATION CONTACT: John Drury or Patrick Edwards, AD/CVD Operations, Office 7, Import Administration, International Trade Administration, U.S. Department of Commerce, 14th Street and Constitution Avenue, NW, Washington, DC 20230, telephone (202) 482-0195 or (202) 482-8029, respectively.

SUPPLEMENTARY INFORMATION:

Background

On November 2, 1992, the Department published the antidumping duty order on circular welded non-alloy steel pipe from Mexico. See Notice of Antidumping Duty Order: Certain Circular Welded non-Alloy Steel Pipe from Brazil, the Republic of Korea (Korea), Mexico, and Venezuela, and Amendment to Final Determination of Sales at Less Than Fair Value: Certain Circular Welded Non-Alloy Steel Pipe from Korea, 57 FR 49453 (November 2, 1992). On May 26, 2006, we received a request for a new shipper review from Conduit for the period November 1, 2005, through April 30, 2006. We initiated the review on July 10, 2006. See Circular Welded Non-Alloy Steel Pipe and Tube from Mexico: Initiation of New Shipper Antidumping Duty Review, 71 FR 38851 (July 10, 2006).

On April 20, 2007, the Department published in the Federal Register its preliminary intent to rescind the antidumping duty new shipper review of certain circular welded non-alloy steel pipe from Mexico for the period November 1, 2005, through April 30, 2006. See Intent to Rescind. No party commented on our preliminary intent to rescind the new shipper review for Conduit.

Scope of the Order

The merchandise under review is circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low-pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of these orders, except line pipe, oil country tubular goods, boiler tubing, mechanical tubing, pipe and tube hollows for redraws, finished scaffolding, and finished conduit. Standard pipe that is dual or triple certified/stenciled that enters the U.S. as line pipe of a kind used for oil or gas pipelines is also not included in these orders.

Imports of the products covered by these orders are currently classifiable under the following Harmonized Tariff Schedule (HTS) subheadings: 7306.30.10.00, 7306.30.50.25, 7306.30.50.32, 7306.30.50.40, 7306.30.50.55, 7306.30.50.85, and 7306.30.50.90. Although the HTS subheadings are provided for convenience and customs purposes, our written description of the scope of these proceedings is dispositive.

Rescission of Review

The Department may rescind a new shipper review with respect to an exporter or producer if the Department concludes that there were no entries, exports, or sales of the subject merchandise to the United States during the period of review. See 19 CFR § 351.214(f)(2). The Department has previously detailed its findings at verification with respect to the merchandise sold by Conduit subject to this new shipper review. See Intent to Rescind at 19881. As noted above, the Department received no comments from interested parties. Therefore, based on the findings at verification, the Department determines that the merchandise sold by Conduit, and subject to this new shipper review, is not within the scope of the order of certain circular welded non-alloy steel pipe from Mexico. As a result, the Department is rescinding this new shipper review.

Notification

The Department will notify U.S. Customs and Border Protection that bonding is no longer permitted to fulfill security requirements for shipments by Conduit of certain circular welded non-alloy steel pipe from Mexico entered, or withdrawn from warehouse, for consumption in the United States on or after the publication of this rescission notice in the Federal Register, and that a cash deposit of 32.62 percent ad valorem should be collected for any entries exported by Conduit.

This notice also serves as the only reminder to parties subject to administrative protective orders (“APO”) of their responsibility concerning the disposition of proprietary information disclosed under APO in accordance with 19 CFR § 351.305(a)(3). Timely written notification of the return/destruction of APO material or conversion to judicial protective order is hereby requested. Failure to comply with the regulations and terms of an APO is a violation that is subject to sanctions.

This notice is issued and published in accordance with sections 751(a)(2) and 777(i)(1) of the Tariff Act of 1930, as amended.

Dated: July 10, 2007.
David M. Spooner,
Assistant Secretary for Import Administration.

[FR Doc. E7-13834 Filed 7-16-02; 8:45 am]

Billing Code: 3510-DS-S